DEPARTMENT OF HEALTH AND HUMAN SERVICES

Health Resources and Services Administration

Agency Information Collection Activities; Proposed Collection; Public Comment Request

AGENCY: Health Resources and Services Administration, HHS.

ACTION: Notice.

SUMMARY: In compliance with the requirement for opportunity for public comment on proposed data collection projects (Section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this Information Collection Request must be received within 60 days of this notice.

ADDRESSES: Submit your comments to paperwork@hrsa.gov or mail the HRSA Information Collection Clearance Officer, Room 10-29, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: The National Health Service Corps Loan Repayment Program

OMB No. 0915-0127—Revision

Abstract: The National Health Service Corps (NHSC) Loan Repayment Program (LRP) was established to assure an adequate supply of trained primary care health professionals to provide services in the neediest Health Professional Shortage Areas (HPSAs) of the United States. Under this program, the Department of Health and Human Services agrees to repay the qualifying educational loans of selected primary care health professionals. In return, the health professionals agree to serve for a specified period of time in a federally designated HPSA approved by the Secretary for LRP participants. The forms utilized by the LRP include the following: the NHSC LRP Application, the Authorization for Disclosure of Loan Information form, the Privacy Act Release Authorization form, the Verification of Disadvantaged Background form, and the Private Practice Option form. The first four of the aforementioned NHSC LRP forms collect information that is needed for selecting participants and repaying qualifying educational loans. The last referenced form, the Private Practice Option Form, is required by statute (42 U.S.C. 254n(a)) for all participants wishing to exercise that service option.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized Burden Hours
Form name | Number of respondents | Responses per respondent | Total responses | Average burden per response (in hours) | Total burden hours
NHSC LRP Application | 8,200 | 1 | 8,200 | 1.00 | 8,200
Authorization for Disclosure of Loan Information Form | 150 | 1 | 150 | .10 | 15
Privacy Act Release Authorization Form | 100 | 1 | 100 | .10 | 10
Verification of Disadvantaged Background Form | 600 | 1 | 600 | .50 | 300
Private Practice Option Form | 300 | 1 | 300 | .10 | 30
Total |  |  | 9,350 |  | 8,555

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Dated: August 28, 2013.
Bahar Niakan,
Director, Division of Policy and Information Coordination.

[FR Doc. 2013-21564 Filed 9-4-13; 8:45 am]

BILLING CODE 4165-15-P